DEPARTMENT OF HEALTH AND HUMAN SERVICES

Administration on Aging

2005 White House Conference on Aging

AGENCY: Administration on Aging, HHS.

ACTION: Request for individuals to apply to be considered as At-Large Delegates to the 2005 White House Conference on Aging (WHCoA).

SUMMARY: On December 1, 2004 the Policy Committee for the 2005 WHCoA voted to invite 1,200 individuals to serve as delegates to the 2005 White House Conference on Aging, scheduled to take place fall 2005 in Washington, DC. These delegates will vote on resolutions and develop implementation strategies to be presented to the President and the Congress to help guide national aging policies for the next decade and beyond. The 2005 WHCoA will be the fifth in the history of the United States and the first of the 21st Century.

DATES: On or before June 1, 2005 for individuals to self-nominate or to submit name(s) of other persons wishing to be considered as delegates to the WHCoA.

ADDRESSES: Fill out the designated application form for At-Large Delegates located on the WHCoA Web site at [http://www.whcoa.gov], or you may request an At-Large Delegate Application Form by calling the WHCOA at (301) 443-9462 or by e-mail at [Info@whcoa.gov]. Submit your form by mail to WHCoA, 4350 East-West Highway, Suite 300, Bethesda, MD 20814 (please mark envelope At Large Delegate Application) or by fax to (301) 443-2902.

FOR FURTHER INFORMATION CONTACT: Jim Jarrard on (301) 443-2801 or e-mail [Info@whcoa.gov].

SUPPLEMENTARY INFORMATION: The 2005 White House Conference on Aging is authorized by the Older Americans Act Amendments of 2000 (Pub. L. 106-501, November 2000). Specifically, Pub. L. 106-501 states that “the delegates shall be selected without regard to political affiliation or past partisan activity and shall, to the best of the appointing authority's ability, be representative of the spectrum of thought in the field of aging. Delegates shall include individuals who are professionals, individuals who are non-professionals, minority individuals, individuals from low-income families, representatives of Federal, state and local governments and individuals from rural areas. A majority of such delegates shall be 55 or older.” The White House Conference on Aging is also authorized by Pub. L. 106-501 to focus on issues related to the aging of today and tomorrow, including the 78 million baby boomers born between 1946 and 1964.

As decided on December 1, 2004 by the WHCoA Policy Committee, the majority of the delegates will represent the following: Governors of all 50 States, the U.S. Territories, the Commonwealth of Puerto Rico, and the District of Columbia; Members of the 109th Congress, and the National Congress of American Indians. These officials received a letter sent on January 31, 2005 from the Honorable Dorcas R. Hardy, Policy Committee Chairman of the 2005 WHCoA informing them of their ability to select delegates and delegate alternates no later than April 15, 2005.

The balance of the delegates (At-Large delegates) will be selected by the Policy Committee for the 2005 White House Conference on Aging and will represent national aging and other allied organizations, baby boomers, academic institutions, business and industry, non-profit, disability and veterans organizations, and others with a stake in the aging of America. Because of the tremendous opportunity that the WHCoA presents for the future of aging policies in our nation, the 2005 WHCoA is seeking visionary and thoughtful delegates who will make significant and tangible contributions to this historic event. The WHCoA wishes to ensure that the delegates represent a broad cross section of the U.S. population so that the concerns and issues of current as well as future seniors receive appropriate attention.

The Policy Committee, a 17-member bipartisan Committee appointed by the President and Congress to implement the 2005 WHCoA, will review and evaluate each individual who has applied or been nominated to be considered as a delegate according to established criteria. The Policy Committee will seek to achieve an appropriate balance by selecting delegates to fill gaps that may exist after gubernatorial, congressional and Native American delegate selections are made. Delegates should anticipate that their time spent in Washington, DC will be extremely busy, and that their individual and collective efforts will result in a significant contribution to help shape U.S. aging policies for the next decade and beyond.

To be considered as an At-Large delegate by the Policy Committee, please visit the WHCoA Web site at [http://www.whcoa.gov], fill out and submit the designated application form for At-Large Delegates. You may also nominate another individual to be considered. You may request an At-Large Delegate Application Form by calling the WHCOA at (301) 443-9462 or by e-mail at [Info@whcoa.gov]. You may submit your form by mail at WHCoA, 4350 East-West Highway, Suite 300, Bethesda, MD 20814 (please mark envelope At Large Delegate Application) or by fax to (301) 443-2902. All applications must be received by the WHCoA for consideration on or before June 1, 2005.

The information requested will be used to select persons to serve as delegates to the 2005 WHCoA. Furnishing of this information is voluntary. Failure to do so, however, may result in the denial of delegate status. Access to the submitted information is limited to the Policy Committee of the WHCoA. The legal authority for the collection of this information is Pub. L. 106-501, Title II, November 13, 2000 (Older Americans Act Amendments of 2000) and 5 U.S.C. App. 2 (Federal Advisory Committee Act).

Edwin L. Walker,
Deputy Assistant Secretary for Policy and Programs.

[FR Doc. 05-9145 Filed 5-6-05; 8:45 am]

BILLING CODE 4154-01-P